DEPARTMENT OF ENERGY

10 CFR Part 430

[EERE-2014-BT-STD-0058]

RIN 1904-AF59

Energy Conservation Program: Energy Conservation Standards for Consumer Clothes Dryers

AGENCY: Office of Energy Efficiency and Renewable Energy, Department of Energy.

ACTION: Direct final rule; confirmation of effective and compliance dates; technical correction.

SUMMARY: The U.S. Department of Energy (“DOE”) published a direct final rule to establish amended energy conservation standards for consumer clothes dryers in the Federal Register on March 12, 2024. DOE has determined that the comments received in response to the direct final rule do not provide a reasonable basis for withdrawing the direct final rule. Therefore, DOE provides this document confirming the effective and compliance dates of those standards. This document also clarifies the introductory notes to the appendices for the consumer dryer test procedure to conform with the amended standards promulgated by direct final rule published on March 12, 2024.

DATES: The technical correction in this document is effective October 8, 2024. The effective date of July 10, 2024 for the direct final rule published on March 12, 2024 (89 FR 18164) is confirmed. Compliance with the standards established in the direct final rule will be required on March 1, 2028.

ADDRESSES: The docket for this rulemaking, which includes Federal Register notices, public meeting attendee lists and transcripts, comments, and other supporting documents/materials, is available for review at www.regulations.gov. All documents in the docket are listed in the www.regulations.gov index. However, not all documents listed in the index may be publicly available, such as information that is exempt from public disclosure.

The docket web page can be found at www.regulations.gov/docket/EERE-2014-BT-STD-0058. The docket web page contains instructions on how to access all documents, including public comments, in the docket.

For further information on how to submit a comment or review other public comments and the docket, contact the Appliance and Equipment Standards Program staff at (202) 287-1445 or by email: ApplianceStandardsQuestions@ee.doe.gov.

FOR FURTHER INFORMATION CONTACT:

Dr. Carl Shapiro, U.S. Department of Energy, Office of Energy Efficiency and Renewable Energy, Building Technologies Office, EE-5B, 1000 Independence Avenue SW, Washington, DC 20585-0121. Telephone: (202) 287-5649. Email: ApplianceStandardsQuestions@ee.doe.gov.

Mr. Uchechukwu “Emeka” Eze, U.S. Department of Energy, Office of the General Counsel, GC-33, 1000 Independence Avenue SW, Washington, DC 20585-0121. Telephone: (240) 961-8879. Email: uchechukwu.eze@hq.doe.gov.

SUPPLEMENTARY INFORMATION:

Table of Contents

I. Authority

II. Consumer Clothes Dryers Direct Final Rule

A. Background

III. Comments on the Direct Final Rule

A. General Comments

B. Anti-Backsliding

C. Economic Justification

1. Manufacturer and Consumer Impacts

2. Energy Price Trends

3. Consumer Behavior

4. Product Reliability

5. SCC-GHG Analysis

D. Unavailability of Performance Characteristics

E. Stakeholder Representation

F. Formal Rulemaking

G. Conforming Updates To Test Procedure Introductory Notes

IV. Impact of Any Lessening of Competition

V. Conclusion

I. Authority

The Energy Policy and Conservation Act, Public Law 94-163, as amended (“EPCA”),¹ authorizes DOE to issue a direct final rule establishing an energy conservation standard for a product on receipt of a statement submitted jointly by interested persons that are fairly representative of relevant points of view (including representatives of manufacturers of covered products, States, and efficiency advocates), as determined by the Secretary of Energy (“Secretary”), that contains recommendations with respect to an energy or water conservation standard that are in accordance with the provisions of 42 U.S.C. 6295(o) or 42 U.S.C. 6313(a)(6)(B), as applicable. (42 U.S.C. 6295(p)(4))

¹ All references to EPCA in this document refer to the statute as amended through the Energy Act of 2020, Public Law 116-260 (Dec. 27, 2020), which reflect the last statutory amendments that impact Parts A and A-1 of EPCA.

The direct final rule must be published simultaneously with a notice of proposed rulemaking (“NOPR”) that proposes an energy or water conservation standard that is identical to the standard established in the direct final rule, and DOE must provide a public comment period of at least 110 days on this proposal. (42 U.S.C. 6295(p)(4)(A)-(B)) Not later than 120 days after issuance of the direct final rule, DOE shall withdraw the direct final rule if: (1) DOE receives one or more adverse public comments relating to the direct final rule or any alternative joint recommendation; and (2) based on the rulemaking record relating to the direct final rule, DOE determines that such adverse public comments or alternative joint recommendation may provide a reasonable basis for withdrawing the direct final rule. (42 U.S.C. 6295(p)(4)(C)) If DOE makes such a determination, DOE must proceed with the NOPR published simultaneously with the direct final rule and publish in the Federal Register the reasons why the direct final rule was withdrawn. (Id.)

After review of comments received, DOE has determined that it did receive adverse comments on the direct final rule. However, based on the rulemaking record, the comments did not provide a reasonable basis for withdrawing the direct final rule under the provisions in 42 U.S.C. 6295(p)(4)(C). As such, DOE did not withdraw this direct final rule and the direct final rule remains effective. Although not required under EPCA, where DOE does not withdraw a direct final rule, DOE typically publishes a summary of the comments received during the 110-day comment period and its responses to those comments. This document contains such a summary, as well as DOE's responses to the comments.

II. Consumer Clothes Dryers Direct Final Rule

A. Background

In a direct final rule published on April 21, 2011, (“April 2011 Direct Final Rule”), DOE prescribed the current energy conservation standards for consumer clothes dryers manufactured on or after January 1, 2015. 76 FR 22454.² These standards are set forth in DOE's regulations at title 10 of the Code of Federal Regulations (“CFR”) section 430.32(h)(3).

² DOE published a confirmation of effective date and compliance date for the direct final rule on August 24, 2011. 76 FR 52854.

DOE's current energy conservation standards for consumer clothes dryers are expressed in terms of combined energy factor (“CEF”), measured in pounds per kilowatt-hour (“lb/kWh”). To demonstrate compliance with the current energy conservation standards, manufacturers must use either the test procedure provided at 10 CFR part 430, subpart B, appendix D1 (“appendix D1”) or the test procedure provided at 10 CFR part 430, subpart B, appendix D2 (“appendix D2”). Appendix D1 tests timed drying cycles, and accounts for clothes dryers with automatic termination controls by applying a higher field use factor to units that have this feature. Appendix D2 tests “normal” automatic termination cycles and more accurately measures the effects of automatic cycle termination.

On August 23, 2022, DOE published a NOPR (“August 2022 NOPR”) proposing to establish amended standards for consumer clothes dryers expressed in terms of CEF as determined in accordance with the appendix D2 test procedure (denoted as CEFD2). 87 FR 51734.

On September 25, 2023, DOE received a joint statement (“Joint Agreement”) recommending standards for consumer clothes dryers that was submitted by groups representing manufacturers, energy and environmental advocates, consumer groups, and a utility.³ In addition to the recommended standards for consumer clothes dryers, the Joint Agreement also included separate recommendations for several other covered products.⁴ The amended standard levels recommended in the Joint Agreement for consumer clothes dryers are presented in table II.1. Details of the Joint Agreement recommendations for other products are provided in the Joint Agreement posted in the docket for this rulemaking.⁵

³ The signatories to the Joint Agreement include AHAM, American Council for an Energy-Efficient Economy, Alliance for Water Efficiency, Appliance Standards Awareness Project, Consumer Federation of America, Consumer Reports, Earthjustice, National Consumer Law Center, Natural Resources Defense Council, Northwest Energy Efficiency Alliance, and Pacific Gas and Electric Company. Members of AHAM's Major Appliance Division that make the affected products include: Alliance Laundry Systems, LLC; Asko Appliances AB; Beko U.S. Inc.; Brown Stove Works, Inc.; BSH Home Appliances Corporation; Danby Products, Ltd.; Electrolux Home Products, Inc.; Elicamex S.A. de C.V.; Faber; Fotile America; GE Appliances, a Haier Company; L'Atelier Paris Haute Design LLG; LG Electronics; Liebherr USA, Co.; Midea America Corp.; Miele, Inc.; Panasonic Appliances Refrigeration Systems (PAPRSA) Corporation of America; Perlick Corporation; Samsung Electronics America Inc; Sharp Electronics Corporation; Smeg S.p.A; Sub-Zero Group, Inc.; The Middleby Corporation; U-Line Corporation; Viking Range, LLC; and Whirlpool Corporation.

⁴ The Joint Agreement contained recommendations for six covered products: refrigerators, refrigerator-freezers, and freezers; clothes washers; clothes dryers; dishwashers; cooking products; and miscellaneous refrigeration products.

⁵ The Joint Agreement available in the docket at www.regulations.gov/comment/EERE-2014-BT-STD-0058-0055.

Table II.1—Recommended Amended Energy Conservation Standards for Consumer Clothes Dryers
Product class | Minimum CEFD2 (lb/kWh) | Compliance date
Electric, Standard (4.4 cubic feet (“ft³”) or greater capacity) | 3.93 | March 1, 2028.
Electric, Compact (120 volts (“V”)) (less than 4.4 ft³ capacity) | 4.33
Vented Electric, Compact (240V) (less than 4.4 ft³ capacity) | 3.57
Vented Gas, Standard (4.4 ft³ or greater capacity) | 3.48
Vented Gas, Compact (less than 4.4 ft³ capacity) | 2.02
Ventless Electric, Compact (240V) (less than 4.4 ft ³ capacity) | 2.68
Ventless Electric, Combination Washer-Dryer | 2.33

After carefully considering the recommended energy conservation standards for consumer clothes dryers in the Joint Agreement, DOE determined that these recommendations were in accordance with the statutory requirements of 42 U.S.C. 6295(p)(4) for the issuance of a direct final rule and published a direct final rule on March 12, 2024 (“March 2024 Direct Final Rule”). 89 FR 18164. DOE evaluated whether the Joint Agreement satisfies 42 U.S.C. 6295(o), as applicable, and found that the recommended standard levels would result in significant energy savings and are technologically feasible and economically justified. Id. at 89 FR 18230-18240. Accordingly, DOE adopted the recommended efficiency levels for consumer clothes dryers as the amended standard levels in the March 2024 Direct Final Rule. Id.

The standards adopted in the March 2024 Direct Final Rule apply to product classes listed in table II.2 and that are manufactured in, or imported into, the United States starting on March 1, 2028. The March 2024 Direct Final Rule provides a detailed discussion of DOE's analysis of the benefits and burdens of the new and amended standards pursuant to the criteria set forth in EPCA. Id. at 89 FR 18230-18240.

Table II.2—Amended Energy Conservation Standards for Consumer Clothes Dryers
[Compliance starting March 1, 2028]
Product class | Minimum CEFD2 (lb/kWh)
(i) Electric, Standard (4.4 cubic feet (“ft³”) or greater capacity) * | 3.93
(ii) Electric, Compact (120 volts (“V”)) (less than 4.4 ft³ capacity) | 4.33
(iii) Vented Electric, Compact (240V) (less than 4.4 ft³ capacity) | 3.57
(iv) Vented Gas, Standard (4.4 ft³ or greater capacity) ** | 3.48
(v) Vented Gas, Compact (less than 4.4 ft³ capacity) | 2.02
(vi) Ventless Electric, Compact (240V) (less than 4.4 ft³ capacity) | 2.68
(vii) Ventless Electric, Combination Washer-Dryer | 2.33
* The energy conservation standards in this product class do not apply to Vented Electric, Standard clothes dryers with a cycle time of less than 30 minutes, when tested according to appendix D2 in subpart B of this part.
** The energy conservation standards in this product class do not apply to Vented Gas, Standard clothes dryers with a cycle time of less than 30 minutes, when tested according to appendix D2 in subpart B of this part.

As required by EPCA, DOE also simultaneously published a NOPR proposing the identical standard levels contained in the March 2024 Direct Final Rule. 89 FR 18244. DOE considered whether any adverse comment received during the 110-day comment period following the publication of the March 2024 Direct Final Rule provided a reasonable basis for withdrawal of the direct final rule under the provisions in 42 U.S.C. 6295(p)(4)(C).

III. Comments on the Direct Final Rule

As discussed in section I of this document, not later than 120 days after publication of a direct final rule, DOE shall withdraw the direct final rule if: (1) DOE receives one or more adverse public comments relating to the direct final rule or any alternative joint recommendation; and (2) based on the rulemaking record relating to the direct final rule, DOE determines that such adverse public comments or alternative joint recommendation may provide a reasonable basis for withdrawing the direct final rule. (42 U.S.C. 6295(p)(4)(C)(i))

DOE received comments in response to the March 2024 Direct Final Rule from the interested parties listed in table III.1.

Table III.1—List of Commenters With Written Submissions in Response to the March 2024 Direct Final Rule
Commenter(s) | Abbreviation | Comment No. in the docket | Commenter type
Casey Smith | Smith | 65 | Individual.
Representative Stephanie Bice | Rep. Bice | 67 | Federal Government Official.
New York State Energy Research and Development Authority and California Energy Commission | NYSERDA and CEC | 68 | State Agencies.
Association of Home Appliance Manufacturers | AHAM | 69 | Trade Association.
The Attorney General of Montana | AG of MT | 70 | State Government Official.
The Consumer Federation of America, Consumer Reports, Green Energy Consumers Alliance, National Consumer Law Center, and U.S. Public Interest Research Group | CFA et al | 71 | Advocacy Organizations.
Appliance Standards Awareness Project, American Council for an Energy-Efficient Economy, Consumer Federation of America, Consumer Reports, Earthjustice, National Consumer Law Center, Natural Resources Defense Council, Northwest Energy Efficiency Alliance, and Pacific Gas and Electric Company | ASAP et al | 72 | Advocacy Organizations.
The Attorneys General of the States of Tennessee, Nebraska, Florida, Arkansas, Georgia, Louisiana, Montana, Indiana, Kentucky, Texas, Iowa, South Carolina, Idaho, West Virginia, Missouri, New Hampshire, South Dakota, Alabama, Kansas, Utah, Mississippi | AGs of TN et al | 73 | State Government Officials.

A parenthetical reference at the end of a comment quotation or paraphrase provides the location of the item in the public record.⁶ The following sections discuss the substantive comments DOE received on the March 2024 Direct Final Rule as well as DOE's determination that the comments do not provide a reasonable basis for withdrawal of the direct final rule.

⁶ The parenthetical reference provides a reference for information located in the docket of DOE's rulemaking to develop energy conservation standards for consumer clothes dryers. (Docket No. EERE-2014-BT-STD-0058, which is maintained at: www.regulations.gov). The references are arranged as follows: (commenter name, comment docket ID number at page of that document).

A. General Comments

NYSERDA and CEC reiterated their sustained support for the recommendations issued in their October 5, 2023 letter.⁷ (NYSERDA and CEC, No. 68 at p. 1)

⁷ NYSERDA and CEC letter available at www.regulations.gov/comment/EERE-2014-BT-STD-0058-0056.

Smith supported DOE's proposal to apply energy conservation standards to consumer clothes dryers and to periodically determine whether stricter standards are feasible. Smith commented that the benefits of the March 2024 Direct Final Rule outweigh manufacturer concerns regarding initial costs. (Smith, No. 65 at p. 1)

AHAM and ASAP et al. supported the March 2024 Direct Final Rule for consumer clothes dryers because it establishes standards that are consistent with recommendations submitted in the Joint Agreement. (AHAM, No. 69 at p. 1, ASAP et al. No. 72 at pp. 1-2) AHAM commented that it finds DOE has satisfied all EPCA criteria for issuing the March 2024 Direct Final Rule because the recommended energy conservation standards were designed by the Joint Stakeholders (including manufacturers of various sizes as well as consumer, environmental, and efficiency advocacy groups; a utility; and some States) to achieve the maximum improvement in energy efficiency that is technologically feasible and economically justified in accordance with the provisions of 42 U.S.C. 6295(o); and because DOE issued the March 2024 Direct Final Rule together with a proposed rule identical to the standard established in the March 2024 Direct Final Rule and allowed 110 days for public comment, which is consistent with EPCA requirements. AHAM agreed with DOE's determination that the amended energy conservation standards levels in the March 2024 Direct Final Rule can be reached through technology options identified in the March 2024 Direct Final Rule, or through other pathways, and that under the March 2024 Direct Final Rule, about half of existing consumer clothes dryer shipments already meet the amended conservation standards. AHAM added that because the March 2024 Direct Final Rule levels for many product classes are equivalent to current ENERGY STAR levels, there are a wide range of these products currently on the market. (AHAM, No. 69 at pp. 4, 5-6)

AHAM further commented that DOE satisfactorily responded to AHAM's comments and concerns regarding clothes dryer performance, product classes, consideration of low-income consumers, the new Energy Information Administration's (“EIA's”) Residential Energy Consumption Survey of 2020 (“RECS 2020”) data, supply chain challenges, and harmonization of compliance dates for other laundry products. AHAM stated that the compliance timeline reduces the cumulative regulatory burden of this rulemaking and those for other major appliances. (AHAM, No. 69 at pp. 2-3, 6-7)

CFA et al. supported the March 2024 Direct Final Rule, which they noted is one of many completed and pending efficiency standards that will together significantly reduce consumer costs and climate pollution, as well as reduce emissions of nitrogen oxides, which cause health issues. (CFA et al., No. 71 at p. 1)

Rep. Bice submitted a comment in opposition to the standards adopted in the March 2024 Direct Final Rule. (Rep. Bice, No. 67 at p. 1)

The AGs of TN et al. asserted that the March 2024 Direct Final Rule over-regulates American households and requested that DOE reconsider it. (AGs of TN et al., No. 73 at p. 1) The AG of MT expressed agreement with the AGs of TN et al.'s comments. (AG of MT, No. 70, p. 1)

As discussed in more detail below, DOE has determined that these comments do not provide a reasonable basis to withdraw the March 2024 Direct Final Rule.

B. Anti-Backsliding

EPCA, as codified, contains what is known as an “anti-backsliding” provision, which prevents the Secretary from prescribing any amended standard that either increases the maximum allowable energy use or decreases the minimum required energy efficiency of a covered product. (42 U.S.C. 6295(o)(1))

The AG of MT commented that the fact the Joint Agreement is contingent upon other parts being implemented conflicts with the anti-backsliding provision of EPCA. (AG of MT, No. 70 at pp. 1-2). The AG of MT further implied that DOE's efficiency standards may violate the anti-backsliding prohibition in the EPCA when the full fuel cycle costs of shorter lifespans are taken into account. (Id. at p. 4)

The AG of MT stated that DOE must consider energy efficiency over the entire product lifecycle. The AG of MT agreed with DOE's statement that conscientious energy use is more complicated than increasing efficiency alone, and the AG of MT referenced documents with quotes from DOE officials testifying to this sentiment. (AG of MT, No. 70 at p. 3)

As discussed previously, DOE may not prescribe an amended standard that increases the maximum allowable energy use or decreases the energy efficiency of a covered product. Further, EPCA defines the term “energy use” to mean the quantity of energy directly consumed by a consumer product at point of use, determined in accordance with test procedures under 42 U.S.C. 6293. (42 U.S.C. 6291(4)) EPCA similarly defines “energy efficiency” to mean the ratio of the useful output of services from a consumer product to the energy use [as that term is defined] of such product, determined in accordance with test procedures under 42 U.S.C. 6293. (42 U.S.C. 6291(5)) Neither the energy use nor the energy efficiency of a product, as those terms are defined in EPCA, or measured under the applicable test procedure, is dependent upon the lifespan of the product or the energy costs upstream from the point of use, i.e., full fuel cycle costs. As a result, product lifespan has no effect on whether an amended standard violates the anti-backsliding provision in 42 U.S.C. 6295(o)(1).

Additionally, DOE addressed its approach to implementing the Joint Agreement in the March 2024 Direct Final Rule. As discussed there, the Joint Agreement was contingent upon DOE initiating rulemaking processes to adopt all of the recommended standards. In other words, DOE could not pick and choose which recommendations in the Joint Agreement to implement. See 89 FR 18164, 18173. However, the Joint Agreement also acknowledged that DOE may evaluate and implement each of the package of recommended standard in separate rulemakings under the applicable statutory criteria. As described, DOE's adoption of the recommended standards conforms with the anti-backsliding provision in 42 U.S.C. 6295(o)(1).

For the aforementioned reason, DOE has determined that the comments provided by the AG of MT does not provide a reasonable basis for withdrawal of the March 2024 Direct Final Rule.

C. Economic Justification

DOE must follow specific statutory criteria for prescribing new or amended standards for covered products, including consumer clothes dryers. Any new or amended standard for a covered product must be designed to achieve the maximum improvement in energy efficiency that the Secretary determines is technologically feasible and economically justified. (42 U.S.C. 6295(o)(2)(A)) In deciding whether a proposed standard is economically justified, DOE must determine whether the benefits of the standard exceed its burdens. (42 U.S.C. 6295(o)(2)(B)(i)) DOE must make this determination after receiving comments on the proposed standard, and by considering, to the greatest extent practicable, the following seven statutory factors:

(1) The economic impact of the standard on manufacturers and consumers of the products subject to the standard;

(2) The savings in operating costs throughout the estimated average life of the covered products in the type (or class) compared to any increase in the price, initial charges, or maintenance expenses for the covered products that are likely to result from the standard;

(3) The total projected amount of energy (or as applicable, water) savings likely to result directly from the standard;

(4) Any lessening of the utility or the performance of the covered products likely to result from the standard;

(5) The impact of any lessening of competition, as determined in writing by the Attorney General, that is likely to result from the standard;

(6) The need for national energy and water conservation; and

(7) Other factors the Secretary considers relevant.

(42 U.S.C. 6295(o)(2)(B)(i)(I)-(VII))

DOE received several comments on its determination of economic justification under the statutory criteria.

1. Manufacturer and Consumer Impacts

Rep. Bice asserted that increased standards will lead to increased production costs for manufacturers, which will subsequently lead to increased costs to consumers. Rep. Bice added that the adopted standards will limit consumer choice, drive up prices, and impose onerous regulations on American manufacturers, many of whom are small businesses. (Rep. Bice, No. 67, p. 1)

The AGs of TN et al. commented that the March 2024 Direct Final Rule does not weigh heavily enough the appliance cost increase that the rule will cause and that will be borne by American consumers. (AGs of TN et al., No. 73 at p. 2) The AGs of TN et al. commented that DOE expects great savings over the life cycle of new, energy-efficient clothes dryers while failing to take into account the upfront costs to consumers and the preferences of lower socioeconomic buyers. The AGs of TN et al. commented that prior to the Joint Agreement, Whirlpool and AHAM expressed concern about the affordability of clothes dryers for low-income households and the fact that for most consumers, purchase cost is the leading factor in their purchase decision. The AGs of TN et al. added that many will opt to repair old machines rather than purchasing more expensive newer models. (Id. at pp. 3-4)

DOE considered the impacts to manufacturers, including the potential increase in manufacturing costs, in the manufacturing impact analysis in the March 2024 Direct Final Rule. 89 FR 18164, 18199-18202, 18217-18224. DOE estimates that approximately 48 percent of annual shipments currently meet the adopted standard levels. Id. at 89 FR 18236-18237. DOE notes that it did not identify any small business manufacturers of consumer clothes dryers. 89 FR 18244, 18258-18259. In the March 2024 Direct Final Rule, the life-cycle cost (“LCC”) analysis calculated the distribution of impacts across a nationally representative sample of U.S. households. As demonstrated by the LCC analysis, at the adopted standard, the LCC savings is positive for nearly all consumers; the fraction of consumers experiencing a net LCC cost is less than 2 percent; the fraction of low-income households and senior-only households experiencing a net LCC cost is approximately 1.5 percent and 2.5 percent, respectively. Id. Therefore, the March 2024 Direct Final Rule did consider the economic impact of the standard on the manufacturers and on the consumers of the products subject to such standard (42 U.S.C. 4296(o)(2)(B)(i)(I)), and DOE has determined that the comments provided by the AGs of TN et al. and Rep. Bice do not provide a reasonable basis for withdrawal of the March 2024 Direct Final Rule.

AHAM commented that under the standards adopted in the March 2024 Direct Final Rule, only 2 percent of consumers would experience a net cost. AHAM commented that on average, consumers will save $223 with a payback period of 1.2 years, across all product classes. (Id.)

ASAP et al. commented that the amended standards will particularly benefit low-income consumers, who spend three times more of their income on energy costs compared to non-low-income households. ASAP et al. commented that the standards will also benefit renters, whose landlords might not otherwise purchase energy-saving clothes dryers. (ASAP et al., No. 72 at p. 2)

CFA et al. commented that clothes dryers are one of the biggest energy users in many homes, with today's least efficient models consuming nearly one-tenth of the average home's total electricity use. CFA et al. also commented that renters, who are disproportionately low-income households, are often unable to choose their own clothes dryer yet pay the utility bills—a problem more pronounced in multifamily housing, which is predominantly occupied by renters. CFA et al. further commented that the standards adopted in the March 2024 Direct Final Rule will reduce energy use by 40 percent relative to the least efficient clothes dryers sold today, benefiting homeowners and renters alike; for a household replacing an inefficient electric clothes dryer, the new standards will provide annual electricity bill savings of $44 on average. CFA et al. noted that the standards will also help ensure that clothes dryers don't over-dry clothes, which can shrink or otherwise damage them. CFA et al. added that for low-income households, the average payback period for electric clothes dryers, which make up about 80 percent of sales, is just four months; for gas clothes dryers, the average payback period is one year. (CFA et al., No. 71 at p. 1)

2. Energy Price Trends

The AG of MT stated that DOE's reliance on 2022 data for energy prices and the EIA's Annual Energy Outlook 2023 (“AEO2023”) for pricing trends is faulty due to Federal rulemakings being issued that will force existing generating capacity offline, spike electricity demand, and decrease fossil fuel supply, as illustrated with several documents attached to the comment. (AG of MT, No. 70 at p. 5)

DOE contends that AEO2023 remains the best available source for projections of future energy price trends based on adopted energy policies. DOE also performed sensitivity analyses using alternate AEO2023 growth scenarios with low and high energy prices relative to the reference scenario in the March 2024 Direct Final Rule to assess the impact of alternative energy price projections. 89 FR 18164, 18198. The results of these scenarios are available in appendix 10C of the March 2024 Direct Final Rule technical support document (“TSD”) and show that consumers of consumer clothes dryers would still experience positive cumulative net present value (“NPV”) even when considering lower and higher energy prices.

Therefore, the March 2024 Direct Final Rule did take into account energy price variability in its analysis, and DOE has determined that the comment provided by the AG of MT does not provide a reasonable basis for withdrawal of the March 2024 Direct Final Rule.

3. Consumer Behavior

The AG of MT stated that DOE acknowledges but disregards consumer preference and assumes consumers are ignorant. The AG of MT attached studies demonstrating consumer preference for product lifetime over energy consumption, and the AG of MT commented that these longer-life appliances may use less energy over the entire life cycle and be lower cost to the consumer, yet DOE did not address those issues. (AG of MT, No. 70, p. 2)

DOE did not disregard consumer preference but rather noted in the March 2024 Direct Final Rule that the economics literature provides a wide-ranging discussion of how consumers trade off up-front costs and energy savings in the absence of government intervention. 89 FR 18164, 18231. Much of this literature explains why consumers appear to undervalue energy efficiency improvements. There is evidence that consumers undervalue future energy savings as a result of (1) a lack of information; (2) a lack of sufficient salience of the long-term or aggregate benefits; (3) a lack of sufficient savings to warrant delaying or altering purchases; (4) excessive focus on the short term, in the form of inconsistent weighting of future energy cost savings relative to available returns on other investments; (5) computational or other difficulties associated with the evaluation of relevant trade-offs; and (6) a divergence in incentives (for example, between renters and owners, or builders and purchasers). Id. Having less-than-perfect foresight and a high degree of uncertainty about the future, consumers may trade off these types of investments at a higher-than-expected rate between current consumption and uncertain future energy cost savings. Id.

Potential changes in the benefits and costs associated with a standard due to changes in consumer purchase decisions were included in the analysis for the March 2024 Direct Final Rule in two ways. Id. First, if consumers forgo the purchase of a product in the standards case, as estimated based on price elasticity related to empirical data on appliances, this decreases sales for product manufacturers, and the impact on manufacturers attributed to lost revenue is included in the manufacturer impact analysis. Id. Second, DOE accounts for energy savings attributable only to products actually used by consumers in the standards case; if a standard decreases the number of products purchased by consumers, leading to repair existing clothes dryers or purchase of used ones, this decreases the potential energy savings from an energy conservation standard.

4. Product Reliability

Further, the AG of MT stated that the reliability of products affected by the rulemaking will decrease due to complexity increases, which the commenter asserted is supported by engineering facts illustrated in a document attached to their comment, yet DOE does not address this issue. The AG of MT also commented that complexity increases will lead to less economic viability of repair, which is not reflected in DOE's assumption that the rulemaking will have no impact on lifespan. The AG of MT commented DOE disregards the fact that reliability can be increased by lightening the electrical, mechanical, thermal, and other conditions of operation of the components, which tends to decrease energy efficiency but results in less repair downtime and longer times before replacement and, therefore, decreased costs, as illustrated in attached documents. (AG of MT, No. 70, pp. 3-5)

The AG of MT referenced a previous comment made by Whirlpool ⁸ in which Whirlpool asserted that consumers may continue replacing cheaper components well into the life of an electromechanically controlled clothes dryer, extending its life, while they may not decide to make a more expensive electronic component repair, like a user interface assembly, after several years of ownership of an electronic control clothes dryer. The AG of MT reiterated Whirlpool's statement that DOE's previously proposed standards may effectively shorten the useful life of a consumer clothes dryer because of this repair-versus-replacement calculus, resulting in loss of time-saving benefits of clothes dryer ownership. (Id. at p. 4) The AG of MT commented that DOE's use of a single lifespan in its analysis for this rulemaking was in error. (Id. at p.3)

⁸ See Whirlpool, No. 53 at pp. 8-9.

ASAP et al. commented that they do not expect the standards in the March 2024 Direct Final Rule to have any impact on product reliability because the amended standards can be met with simple design changes that have already been incorporated in many models on the market today. ASAP et al. presented a figure of historical RECS data showing that the distribution of clothes dryer age remained largely unchanged between 2005 and 2020 as clothes dryer efficiency improved. (ASAP et al., No. 72 at pp. 3-4)

AHAM commented that the recommended standards are economically justified as required by 42 U.S.C. 6295(o)(2)(B)(i)(I) and will not result in lessening of utility, reliability, performance or availability of the clothes dryers considered under 42 U.S.C. 6295(o)(2)(B)(i)(IV).

In contrast to the comment from the AG of MT and as noted in the March 2024 Direct Final Rule, DOE's review of clothes dryer product reliability information provides no indication that higher-efficiency products are less reliable at the adopted standard levels—i.e., ENERGY STAR efficiency level products relative to baseline products. Hence, notwithstanding theoretical conjecture that higher-efficiency products may have poor reliability based on simplified textbook models, no real-world evidence or data related to the technologies used at the adopted standard levels can be found clearly supporting such a correlation. The AG of MT did not specify how the referenced documents on network node analysis and reliability theory correspond to the technologies used at the adopted standard levels for consumer clothes dryers. In the absence of data specific to the technologies used in clothes dryer products, DOE has no practical basis to model the theoretical concern from the AG of MT at the adopted standard levels.

As described in the March 2024 Direct Final Rule, DOE did not use a single lifespan in its analysis for the consumer clothes dryer rulemaking. Instead, DOE assigned a range of lifespan from 1 to 30 years, based on the Weibull lifetime distribution. DOE further notes that the lifetime distribution used in the March 2024 Direct Final Rule is based on actual lifetime values in the field, which were developed from historical shipments data and surveys. DOE observed that from the 2015 RECS to the 2020 RECS, there was a 6 percent increase in the number of consumer clothes dryers retiring before reaching 4 years of age, and an additional 1 percent lasting beyond 15 years. However, DOE did not find that the average lifetime for consumer clothes dryers has significantly changed, as the increase in the Weibull distribution is reflected in both early appliance retirement and extended use beyond 15 years. Therefore, the estimated average lifetime for consumer clothes dryers remains at 14 years. 89 FR 18164, 18191. In addition, DOE is unaware of data that suggests a different lifetime associated with the technology options considered in the March 2024 Direct Final Rule, and no such data was provided by stakeholders.

In response to the March 2024 Direct Final Rule, AHAM commented that the adopted standard will not impact the reliability of products at the adopted level, and it further stated that the standard levels are achievable by technology readily available on the market. (AHAM, No. 69 at p. 5)

As discussed in the March 2024 Direct Final Rule, DOE did take into account product reliability, lifetimes, and cost of repair when considering the LCC of more efficient products when supported by available data. See 89 FR 18164, 18190. Therefore, the March 2024 Direct Final Rule did take into account consumer purchase decisions in its analysis, and DOE has determined that the comment provided by the AG of MT does not provide a reasonable basis for withdrawal of the March 2024 Direct Final Rule.

5. SCC-GHG Analysis

The AG of MT commented that greenhouse gas (“GHG”) emissions and climate change impacts should not be part of EPCA rulemakings, but given their inclusion, DOE must consider them throughout the entire life cycle of the product, including manufacturing and potential reductions in lifespan due to increased complexity. (AG of MT, No. 70 at p. 6) The AG of MT also referred to a statement made to the U.S. Senate Subcommittee on Energy to indicate that 40 to 60 percent of the carbon footprint for many consumer products can be attributed to the supply chain.⁹

⁹ See www.energy.senate.gov/services/files/3D26FA56-F102-9E9F-BEA4-52BB0085B19A.

However, the McKinsey report, which is the primary source for the statement made to the U.S. Subcommittee on Energy, is only referring to the manufacturing company's energy and carbon footprint that can reside upstream in its supply chain and does not include the energy and emissions associated with the usage phase of the appliance life cycle, which represents more than 90 percent of the total for large appliances.¹⁰ As such, the energy and carbon footprint associated with supply chain likely accounts for approximately 4 to 6 percent of the overall carbon footprint of a product. In the March 2024 Direct Final Rule, DOE accounted for the environmental and public health benefits associated with the more efficient use of energy, including those connected to global climate change, as they are important to take into account when considering the need for national energy conservation under EPCA. (See 42 U.S.C. 6295(o)(2)(B)(i)(IV)) 89 FR 18164, 18228-18230. This analysis focused on the estimated reduced emissions expected to result during the lifetime of consumer clothes dryers shipped during the projection period. Id.

¹⁰ Gonzalez, A., A. Chase, and N. Horowitz. 2012. “What We Know and Don't Know about Embodied Energy and Greenhouse Gases for Electronics, Appliances, and Light Bulbs.” Energy Solutions and Natural Resources Defense Council. ACEEE Summer Study on Energy Efficiency in Buildings.

The AG of MT stated that the Interagency Working Group's (“IWG's”) social cost of GHG (“SC-GHG”) based on global impacts is inconsistent with EPCA's requirements for standards to consider economic implications to U.S. consumers. The AG of MT claimed that DOE erroneously appears to assume that all benefits accrue to U.S. citizens, despite using global values. The AG of MT cited the case of Louisiana v. Biden to demonstrate questions related to the accuracy of the IWG's SC-GHG estimates. (AG of MT, No. 70, p. 6)

First, as stated in the March 2024 Direct Final Rule, DOE determined that the rule was economically justified without accounting for the social cost of greenhouse gases. 89 FR 18164, 18232. DOE, however, reiterates its view that the environmental and public health benefits associated with more efficient use of energy, including those connected to global climate change, are important to take into account when considering the need for national energy conservation. (See 42 U.S.C. 6295(o)(2)(B)(i)(IV)) In addition, Executive Order 13563, which was reaffirmed on January 21, 2021, stated that each agency must, among other things, “select, in choosing among alternative regulatory approaches, those approaches that maximize net benefits (including potential economic, environmental, public health and safety, and other advantages; distributive impacts; and equity).” Regarding the use of global SC-GHG values, many climate impacts that affect the welfare of U.S. citizens and residents are better reflected by global measures of SC-GHG. In addition, assessing the benefits of U.S. GHG mitigation activities requires consideration of how those actions may affect mitigation activities by other countries, as those international mitigation actions will provide a benefit to U.S. citizens and residents by mitigating climate impacts that affect U.S. citizens and residents.

The AG of MT stated the monetized GHG benefits largely accrue centuries in the future, well beyond the rulemaking analysis period. Furthermore, the AG of MT stated that DOE improperly mixed discount rates in its cost-benefit analysis. (AG of MT, No. 70 at p. 6)

DOE's March 2024 Direct Final Rule analysis considers the costs and benefits associated with 30 years of shipments of a covered product. Because a portion of products shipped within this 30-year period continue to operate beyond 30 years, DOE accounts for energy cost savings and reductions in emissions until all products shipped within the 30-year period are retired. 89 FR 18164, 19167, 19169. In the case of carbon dioxide emissions, which remain in the atmosphere and contribute to climate change for many decades, the benefits of reductions in emissions likewise occur over a lengthy period; to not include such benefits would be inappropriate. Id.

With regards to discount rates used, the IWG found that the use of the social rate of return on capital (7 percent under current Office of Management and Budget Circular A-4 guidance) to discount the future benefits of reducing GHG emissions inappropriately underestimates the impacts of climate change for the purposes of estimating the SC-GHG. Consistent with the findings of the National Academies and the economic literature, the IWG continued to conclude that the consumption rate of interest is the theoretically appropriate discount rate in an intergenerational context and recommended that discount rate uncertainty and relevant aspects of intergenerational ethical considerations be accounted for in selecting future discount rates. With regards to “mixing discount rates” (which DOE understands to refer to use of different discount rates for monetizing climate-related benefits and for estimating the NPV consumer benefits), DOE consulted the National Academies' 2017 recommendations on how SC-GHG estimates can “be combined in Regulatory Impact Analyses (“RIAs”) with other cost and benefits estimates that may use different discount rates.” The National Academies reviewed several options, including “presenting all discount rate combinations of other costs and benefits with [SC-GHG] estimates.” 89 FR 18164, 18206.¹¹ DOE's approach is consistent with the National Academies' recommendations and is not improper.

¹¹ Following the issuance of the March 2024 Direct Final Rule, DOE issued a rulemaking document in an unrelated matter in which it preliminarily determined that new, updated SC-GHG estimates promulgated in 2023 by EPA (2023 SC-GHG estimates) represent a significant improvement in estimating SC-GHG. See 89 FR 59692, 59700-59701. DOE preliminarily determined that the updated 2023 SC-GHG estimates reflect the best available scientific and analytical evidence and methodologies, are accordingly the most appropriate for DOE analyses, and best facilitate sound decision-making by substantially improving the transparency of the estimates and representations of uncertainty inherent in such estimates. Id. DOE welcomed comment on that preliminary determination. Id.

Because it issued the March 2024 Direct Final Rule prior to making that preliminary determination, DOE estimated the climate benefits of the standards adopted in this rule using the IWG's SC-GHG estimates. As noted in the text, DOE's decision to adopt the March 2024 Direct Final Rule's standards did not depend on the cost of greenhouse gasses; nor would the decision change based on a revised estimate of the cost of greenhouse gasses.

Therefore, DOE has determined that the comments provided by the AG of MT does not provide a reasonable basis for withdrawal of the March 2024 Direct Final Rule.

D. Unavailability of Performance Characteristics

EPCA specifies the Secretary may not prescribe an amended or new standard if interested persons have established by a preponderance of the evidence that the standard is likely to result in the unavailability in the United States in any covered product type (or class) of performance characteristics (including reliability), features, sizes, capacities, and volumes that are substantially the same as those generally available in the United States. (42 U.S.C. 6295(o)(4))

Rep. Bice asserted that the adopted standards will limit consumer choice. (Rep. Bice, No. 67 at p. 1). The AGs of TN et al. also commented that the adopted standards will limit consumer choice. (AGs of TN et al., No. 73 at p. 9)

DOE's data demonstrates that manufacturers of consumer clothes dryers currently offer units that meet or exceed the adopted standards. As such, DOE determined the March 2024 Direct Final Rule would not result in the unavailability of products that are substantially the same as those currently available in the United States. 89 FR 18164, 18226-18227. Therefore, DOE has determined that the comments provided by Rep. Bice and the AGs of TN et al. do not provide a reasonable basis for withdrawal of the March 2024 Direct Final Rule.

ASAP et al. commented that the amended standards, combined with the new test procedure, will ensure that consumer clothes dryers adequately dry clothing and will not negatively impact performance. ASAP et al. added that consumer clothes dryers that already meet the new standards provide improved drying performance relative to less-efficient models, as demonstrated by Consumer Reports studies and test data. (ASAP et al., No. 72 at pp. 2-3)

ASAP et al. noted that the amended standards will not preclude the use of electro-mechanical controls, allowing consumers a preferred user experience. (Id. at p. 3)

ASAP et al. noted that the amended standards will not require an increase in cycle time. ASAP et al. noted that there is no evidence that the frequency of running multiple clothes dryer cycles has increased over time or will increase in the future as a result of the amended standards. (Id.)

AHAM commented that it supported the energy conservation standards in the March 2024 Direct Final Rule because DOE's data demonstrate that when tested under the applicable test procedure for amended standards, there is no significant difference in cycle time between clothes dryers in its data set that are less efficient than the amended standards and those that just meet the amended standard levels. AHAM cited as an example the difference in average cycle time of only about 2 minutes between electric standard clothes dryers in DOE's data set that are less efficient than AHAM's recommended standard and those that just meet its recommended standard level (with CEFs of 3.93 and 3.94, respectively). Thus, AHAM commented that it supported the energy conservation standards adopted in the March 2024 Direct Final Rule. (AHAM, No. 69 at pp. 1-2)

AHAM commented that the energy conservation standards adopted in the March 2024 Direct Final Rule will not result in significant lessening of utility, reliability, performance, or availability of the covered products as prohibited under the so-called “safe harbor” exception of 42 U.S.C. 6295(o)(2)(B)(IV). (Id. at pp. 4-5)

AHAM commented that the test procedure used to determine compliance with amended standards for consumer clothes dryers (i.e., appendix D2) requires that clothes dryers meet a threshold for “final moisture content” to be certified as compliant—the final moisture content requirement ensures that compliant clothes dryers will adequately dry clothes. AHAM added that more than 400 electric clothes dryer models and nearly 200 gas clothes dryer models meet the final moisture content threshold and are certified to the current ENERGY STAR specification, which is equivalent to AHAM's recommended standard levels and is based on appendix D2. AHAM therefore does not anticipate that the energy conservation standards recommended in the Joint Agreement and established in the March 2024 Direct Final Rule will negatively affect features or performance, including cycle time. (Id. at p. 5)

NYSERDA and CEC reiterated their support for the recommendations in the Joint Agreement and echoed the clarification regarding “short cycle” products made in the February 15, 2024 letter to DOE by ASAP and AHAM. This clarification specified that the recommendations in the Joint Agreement did not address “short cycle” products for clothes washers, clothes dryers, and dishwashers as so-called “short cycle” product classes did not exist at the time the recommendations were submitted to DOE and do not exist at this time.¹² This letter also highlighted that the signatories to the Joint Agreement do not anticipate that amended standards will negatively affect features or performance, including cycle time. (NYSERDA and CEC, No. 68 at p. 1)

¹² ASAP and AHAM letter available at www.regulations.gov/comment/EERE-2014-BT-STD-0058-0058.

E. Stakeholder Representation

Under 42 U.S.C. 6295(p)(4), interested persons that are fairly representative of relevant points of view (including representatives of manufacturers of covered products, States, and efficiency advocates), as determined by DOE, may submit a joint recommendation to DOE for new or amended energy conservation standards.

The AGs of TN et al. questioned the expertise and relevancy of several advocacy groups who contributed to the Joint Agreement (i.e., the Alliance for Water Efficiency, Earthjustice, the Northwest Energy Efficiency Alliance, the Natural Resources Defense Council, and the National Consumer Law Center). The AGs of TN et al. asserted that most of the advocacy groups have no expertise in setting energy efficiency standards for consumer clothes dryers, and failed to raise concerns related to the upfront cost of more efficient appliances to low-income households. (AGs of TN et al., No. 73 at p. 3)

The AGs of TN et al. commented that 42 U.S.C. 6295(p)(4) requires a joint statement from “interested persons that are fairly representative of the relevant points of view,” and it must include “representatives of . . . States.” The AGs of TN et al. asserted that the Joint Agreement does not meet that standard, as very few States supported DOE's consumer clothes dryer regulations and were not signatories to the Joint Agreement. The AGs of TN et al. stated that interested persons should include more States, which are the direct representatives of consumers. The AGs of TN et al. added that State entities are direct purchasers of these appliances and thus will directly bear the burden of increased costs for appliances, and the March 2024 Direct Final Rule also preempts State procurement standards with less stringent energy-efficiency rules in contradiction of Federal law. (Id. at pp. 4-5)

The AG of MT agreed with the AGs of TN et al.'s concerns over the participants in the Joint Agreement underlying the March 2024 Direct Final Rule, along with their concerns that the group does not comply with EPCA. (AG of MT, No. 70 at pp. 1-2)

AHAM commented that the stakeholders who submitted the Joint Agreement are representative of a wide range of expert and relevant points of view—including manufacturers of various sizes representing nearly 100 percent of the market for consumer clothes dryers; consumer, environmental, and efficiency advocacy groups; a utility; and several States that participated in the negotiation discussions and filed comments in support of the agreement. AHAM concluded that the March 2024 Direct Final Rule benefits both the manufacturers and consumers that these organizations represent. (AHAM, No. 69 at pp. 3-4)

In response to the comments regarding whether the Joint Agreement was submitted by persons fairly representative of relevant points of view, DOE reiterates that 42 U.S.C. 6295(p)(4) states that if the criteria in 42 U.S.C. 6295(o) are met, the Secretary may issue a final rule that establishes an energy conservation standard “[o]n receipt of a statement that is submitted jointly by interested persons that are fairly representative of relevant points of view (including representatives of manufacturers of covered products, States, and efficiency advocates), as determined by the Secretary.” (42 U.S.C. 6295(p))

As stated in the March 2024 Direct Final Rule, DOE determined that this requirement was met. 89 FR 18164, 18174-18175. The Joint Agreement included a trade association, AHAM, which represents 11 manufacturers of the subject covered products—consumer clothes dryers. Id. The Joint Agreement also included environmental and energy-efficiency advocacy organizations, consumer advocacy organizations, and a gas and electric utility company. Id. Additionally, DOE received a letter in support of the Joint Agreement from the States of New York, California, and Massachusetts (see comment No. 56). Id. DOE also received a letter in support of the Joint Agreement from the gas and electric utility, San Diego Gas and Electric, and the electric utility, Southern California Edison (see comment No. 57). Id. Each of the listed categories of persons described in 42 U.S.C. 6295(p)(4) supported the Joint Agreement.

DOE has ample authority to accept a joint statement in these circumstances. EPCA does not require that the Joint Agreement be representative of every point of view. Nor does it require that a statement be submitted by all interested persons. Rather, it requires a statement from a sufficient number and diversity of “interested persons” such that the statement is “fairly representative of relevant points of view.” The Joint Agreement presented here is such a statement, as the Secretary determined.

Contrary to the commenters' suggestion, EPCA does not include any requirement that “relevant points of view” must include ideologically opposed points of view. Rather, EPCA ensures a diversity of opinions and interests by requiring that parties that provide a joint agreement must be fairly representative of relevant points of view (including representatives of manufacturers of covered products, States, and efficiency advocates), as determined by the Secretary. (42 U.S.C. 6295(p)(4)(A))

Moreover, regardless of whether amended energy conservation standards are recommended as part of a joint agreement or proposed by DOE, the standards have to satisfy the same criteria in 42 U.S.C. 6295(o). Thus, once DOE has determined that a joint agreement was submitted by interested persons that are fairly representative of relevant points of view, DOE then determines whether the joint agreement satisfies the relevant statutory criteria. As a result, in evaluating whether comments provide a reasonable basis for withdrawing a direct final rule, it is the substance of the comments, not the number of stakeholders that submit statements in favor of, or opposed to, the joint agreement, that determines whether a rule should be withdrawn.

DOE also finds meritless the contention that the Joint Agreement parties are not competent to present a statement for purposes of section 6295(p). Contrary to the characterizations by the AGs of TN et al. and AG of MT, the parties to the Joint Agreement have an established historical record of participation in DOE rulemakings and have submitted detailed comments in the past that demonstrate a thorough understanding of technical, legal, and economic aspects of appliance standards rulemakings, including factors affecting specific groups such as low-income households.

In a follow-up letter from the parties to the Joint Agreement, each organization provided a brief description of its background. American Council for an Energy-Efficient Economy is a nonprofit research organization and its independent analysis advances investments, programs, and behaviors that use energy more effectively and help build an equitable clean energy future. Alliance for Water Efficiency is a nonprofit dedicated to efficiency and sustainable use of water that provides a forum for collaboration around policy, information sharing, research, education, and stakeholder engagement. ASAP organizes and leads a broad-based coalition effort that works to advance new appliance, equipment, and lighting standards that cut emissions that contribute to climate change and other environmental and public health harms, save water, and reduce economic and environmental burdens for low- and moderate-income households. AHAM represents more than 150 member companies that manufacture 90 percent of the major, portable and floor care appliances shipped for sale in the United States. CFA is an association of more than 250 non-profit consumer and cooperative groups that advances the consumer interest through research, advocacy, and education. Consumer Reports is a mission-driven, independent, nonprofit member organization that empowers and informs consumers, incentivizes corporations to act responsibly, and helps policymakers prioritize the rights and interests of consumers in order to shape a truly consumer-driven marketplace. Earthjustice is a nonprofit public interest environmental law organization advocating to advance clean energy and combat climate change. National Consumer Law Center supports consumer justice and economic security for low-income and other disadvantaged people in the United States through its expertise in policy analysis and advocacy, publications, litigation, expert witness services, and training. National Resources Defense Council is an international nonprofit environmental organization with expertise from lawyers, scientists, and other environmental specialists. Northwest Energy Efficiency Alliance is a collaboration of 140 utilities and efficiency organizations working together to advance energy efficiency in the Northwest on behalf of more than 13 million consumers. Pacific Gas and Electric Company represents one of the largest combined gas and electric utilities in the Western United States, serving over 16 million customers across northern and central California.¹³

¹³ This document is available in the docket: www.regulations.gov/comment/EERE-2014-BT-STD-0058-0074.

Finally, DOE notes that it had no role in requesting that the parties to the Joint Agreement submit the Joint Agreement or in negotiating the terms of the Joint Agreement. As noted in the Joint Agreement itself, the parties negotiated and accepted the agreement based on the totality of the agreement. DOE's participation was limited to evaluating the joint submission under the criteria set forth in 42 U.S.C. 6295(p). DOE also notes that the preemptive effect of Federal energy conservation standards on State laws is clearly described in EPCA. See 42 U.S.C. 6297.

Therefore, DOE reaffirms its determination that the Joint Agreement was submitted by interested persons that are fairly representative of relevant points of view.

F. Formal Rulemaking

The AGs of TN et al. recommended that before enacting these stringent new standards for consumer clothes dryers, DOE return to formal rulemaking or, at a minimum, to proceed with informal notice-and-comment rulemaking to allow States and other relevant parties to participate in rulemaking processes that affect nearly every household appliance and also ensure a minimal level of political accountability by giving visibility to internal agency deliberations. The AGs of TN et al. further commented that the lack of a formal process does not allow people the opportunity to comment on rules that touch the lives of nearly all Americans. (AGs of TN et al., No. 73 at pp. 5-8) The AG of MT similarly recommended that DOE halt the rulemaking. (AG of MT, No. 70 at p. 7)

The AG of MT expressed concern about pretext and circumvention of the Administrative Procedure Act, regarding DOE's conduct in this rulemaking and in recent litigations. (Id. at pp. 1-2)

AHAM stated that interested parties have had ample opportunity to comment through multiple stages of rulemaking. AHAM noted that, in fact, the March 2024 Direct Final Rule process provided an extra 110 days for interested parties to review DOE's final rule and submit comments—which met EPCA requirements. (AHAM, No. 69 at pp. 3-4)

In response, DOE notes that Congress granted DOE the authority to issue energy conservation standards as direct final rules subject to certain conditions and procedural requirements. As discussed in the March 2024 Direct Final Rule, DOE determined that Joint Agreement was submitted jointly by interested persons that are fairly representative of relevant points of view and the adopted energy conservation standards as recommended in the Joint Agreement would result in significant energy savings and are technologically feasible and economically justified as required under 42 U.S.C. 6295(o) and provided supporting analysis. 89 FR 18164, 18174-18175.

Additionally, DOE notes it followed the procedures in 42 U.S.C. 6295(p)(4) to publish a direct final rule in the Federal Register simultaneously with a NOPR proposing identical standards and allowed 110 days for public comment. See 89 FR 18164 and 89 FR 18244. Regarding the comment about formal rulemaking, DOE has met all of its statutory requirements under its direct rule authority, which does not require formal rulemaking.¹⁴

¹⁴ DOE notes that outside of its direct rulemaking authority, DOE utilizes informal or legislative rulemaking (i.e., notice and comment rulemaking under the Administrative Procedure Act, 5 U.S.C. 553) when it promulgates rules under EPCA, not formal rulemaking.

G. Conforming Updates To Test Procedure Introductory Notes

The test procedures at appendix D1 and appendix D2 contain introductory notes that specify that either appendix D1 or appendix D2 must be used to determine compliance with energy conservation standards for clothes dryers manufactured on or after January 1, 2015, among other details.

The amended standards promulgated by the March 2024 Direct Final Rule are denoted in terms of CEF as determined in accordance with appendix D2 (i.e., appendix D1 may not be used to determine compliance with the amended standards). Accordingly, in this document, DOE updates the introductory notes to both appendix D1 and appendix D2 to specify that use of appendix D2 is required to demonstrate compliance with the amended standards promulgated by the March 2024 Direct Final Rule, which are codified at 10 CFR 430.32(h)(4). The amended introductory note to appendix D2 also specifies that manufacturers may use appendix D2 to certify compliance with the clothes dryer standards provided at 10 CFR 430.32(h)(4) prior to the applicable compliance date for those standards.

In addition, the introductory note in appendix D2 specifies using the value for the representative average number of clothes dryer cycles in a year as defined in section 4.5.1(a) of that appendix until the compliance date of any amended standards for these products; and using a revised value of this number as defined in section 4.5.1(b) of that appendix beginning on the compliance data of any amended standards for these products. This document also updates the introductory note of appendix D2 to specify explicitly the date ranges during which section 4.5.1(a) or 4.5.1(b) must be used, corresponding to the compliance date of March 1, 2028 for the amended standards promulgated by the March 2024 Direct Final Rule.

IV. Impact of Any Lessening of Competition

EPCA directs DOE to consider any lessening of competition that is likely to result from new or amended standards. (42 U.S.C. 629(p)(4)(A)(i) and (C)(i)(II); 42 U.S.C. 6295(o)(2)(B)(i)(V)) It also directs the Attorney General of the United States (“Attorney General”) to determine the impact, if any, of any lessening of competition likely to result from a proposed standard and to transmit such determination to the Secretary within 60 days of the publication of a proposed rule, together with an analysis of the nature and extent of the impact. (42 U.S.C. 6295(o)(2)(B)(i)(V) and (B)(ii)) To assist the Attorney General in making this determination, DOE provided the Department of Justice (“DOJ”) with copies of the March 2024 Direct Final Rule, the corresponding NOPR, and the March 2024 Direct Final Rule TSD for review. DOE has published DOJ's comments at the end of this document.

In its letter responding to DOE, DOJ concluded that, based on its review, the direct final rule standards for consumer clothes dryers are unlikely to have significant adverse impact on competition.

V. Conclusion

In summary, based on the previous discussion, DOE has determined that the comments received in response to the direct final rule for amended energy conservation standards for consumer clothes dryers do not provide a reasonable basis for withdrawal of the direct final rule. As a result, the energy conservation standards set forth in the direct final rule became effective on July 10, 2024. Compliance with these standards is required on and after March 1, 2028.

List of Subjects in 10 CFR Part 430

Administrative practice and procedure, Confidential business information, Energy conservation, Household appliances, Imports, Intergovernmental relations, Reporting and recordkeeping requirements, Small businesses.

Signing Authority

This document of the Department of Energy was signed on September 30, 2024, by Jeffrey Marootian, Principal Deputy Assistant Secretary for Energy Efficiency and Renewable Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on September 30, 2024.
Treena V. Garrett,
Federal Register Liaison Officer, U.S. Department of Energy.

For the reasons set forth in the preamble, DOE amends part 430 of chapter II, subchapter D, of title 10 of the Code of Federal Regulations, to read as set forth below:

PART 430—ENERGY CONSERVATION PROGRAM FOR CONSUMER PRODUCTS

1. The authority citation for part 430 continues to read as follows:

Authority: 42 U.S.C. 6291-6309; 28 U.S.C. 2461 note.

2. Revise the introductory Note to appendix D1 to subpart B of part 430 to read as follows:

Appendix D1 to Subpart B of Part 430—Uniform Test Method for Measuring the Energy Consumption of Clothes Dryers

Note: The procedures in either this appendix or appendix D2 to this subpart must be used to determine compliance with the energy conservation standards for clothes dryers provided at § 430.32(h)(3). Manufacturers must use a single appendix for all representations, including certifications of compliance, and may not use this appendix for certain representations and appendix D2 to this subpart for other representations. The procedures in appendix D2 to this subpart must be used to determine compliance with the energy conservation standards for clothes dryers provided at § 430.32(h)(4).

* * * * *

3. Revise the introductory Note to appendix D2 to subpart B of part 430 to read as follows:

Appendix D2 to Subpart B of Part 430—Uniform Test Method for Measuring the Energy Consumption of Clothes Dryers

Note: The procedures in either appendix D1 to this subpart or this appendix must be used to determine compliance with the energy conservation standards for clothes dryers provided at § 430.32(h)(3). Manufacturers must use a single appendix for all representations, including certifications of compliance, and may not use appendix D1 to this subpart for certain representations and this appendix for other representations. The procedures in this appendix must be used to determine compliance with the energy conservation standards for clothes dryers provided at § 430.32(h)(4). Manufacturers may use this appendix to certify compliance with the clothes dryer standards provided at § 430.32(h)(4) prior to the applicable compliance date for those standards.

Per-cycle standby mode and off mode energy consumption in section 4.5 of this appendix is calculated using the value for the annual representative average number of clothes dryer cycles in a year specified in section 4.5.1(a) of this appendix until March 1, 2028. Beginning on March 1, 2028, per-cycle standby mode and off mode energy consumption in section 4.5 of this appendix is calculated using the value for the annual representative average number of clothes dryer cycles in a year specified in section 4.5.1(b) of this appendix.

* * * * *

Note: The following appendix will not appear in the Code of Federal Regulations.

Appendix A

May 16, 2024

Ami Grace-Tardy

Assistant General Counsel for Legislation, Regulation and Energy Efficiency

U.S. Department of Energy

Washington, DC 20585

Ami.Grace-Tardy@hq.doe.gov

Re: Consumer Clothes Dryers Energy Conservation Standards

DOE Docket No. EERE-2014-BT-STD-0058

Dear Assistant General Counsel Grace-Tardy:

I am responding to your March 25, 2024, letter seeking the views of the Attorney General about the potential impact on competition of proposed energy conservation standards for consumer clothes dryers.

Your request was submitted under Section 325(o)(2)(B)(i)(V) of the Energy Policy and Conservation Act, as amended (ECPA), 42 U.S.C. 6295(o)(2)(B)(i)(V), which requires the Attorney General to make a determination of the impact of any lessening of competition that is likely to result from the imposition of proposed energy conservation standards. The Attorney General's responsibility for responding to requests from other departments about the effect of a program on competition has been delegated to the Assistant Attorney General for the Antitrust Division in 28 CFR 0.40(g). The Assistant Attorney General for the Antitrust Division has authorized me, as the Policy Director for the Antitrust Division, to provide the Antitrust Division's views regarding the potential impact on competition of proposed energy conservation standards on his behalf.

In conducting its analysis, the Antitrust Division examines whether a proposed standard may lessen competition, for example, by substantially limiting consumer choice, by placing certain manufacturers at an unjustified competitive disadvantage, or by inducing avoidable inefficiencies in production or distribution of particular products. A lessening of competition could result in higher prices to manufacturers and consumers.

We have reviewed the proposed standards contained in the Notice of Proposed Rulemaking (89 Fed. Reg. 18244, March 12, 2024), and the Direct Final Rule (89 Fed. Reg. 18164, March 12, 2024) and request for comments and the related Technical Support Documents. We have also reviewed public comments and reviewed the Docket. Based on this review, our conclusion is that the proposed energy conservation standards for consumer clothes dryers are unlikely to have a significant adverse impact on competition.

Sincerely,

/s/

David G.B. Lawrence,

Policy Director.

[FR Doc. 2024-23257 Filed 10-7-24; 8:45 am]

BILLING CODE 6450-01-P